DEPARTMENT OF HOMELAND SECURITY

Coast Guard

33 CFR Part 165

[Docket Number USCG-2024-0547]

RIN 1625-AA00

Safety Zone; M/V Dali, Transit to Maryland/Virginia Line, Chesapeake Bay and Patapsco River, Baltimore, MD

AGENCY: Coast Guard, DHS.

ACTION: Temporary final rule.

SUMMARY: The Coast Guard is establishing a temporary safety zone for certain waters of the Chesapeake Bay and Patapsco River to provide for the safety of life on these navigable waters during the movement of the M/V Dali from the Port of Baltimore to Norfolk Va. M/V Dali is expected to leave Baltimore at 10 a.m. on June 20, 2024, and arrive at the Maryland/Virginia state line about 10 p.m. June 20, 2024. This rulemaking will prohibit persons and vessels from being in the safety zone unless authorized by the Captain of the Port Maryland-National Capital Region or a designated representative.

DATES: This rule is effective from June 20 to June 21, 2024. For the purposes of enforcement, actual notice will be used on June 20.

ADDRESSES: To view documents mentioned in this preamble as being available in the docket, go to https://www.regulations.gov, type USCG-2024-0547 in the “SEARCH” box and click “SEARCH.” Next, in the Document Type column, select “Supporting & Related Material.”

FOR FURTHER INFORMATION CONTACT: If you have questions about this rule, call, or email LCDR Kate M. Newkirk, Sector Maryland-NCR, Waterways Management Division, U.S. Coast Guard: telephone (410) 576-2596, Kate.M.Newkirk@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

On March 26, 2024, the M/V Dali lost propulsion and allided with the Francis Scott Key Bridge in the Chesapeake Bay causing the bridge to collapse upon it. See 89 FR 24385 (April 8, 2024) for additional details about the allision. On, June 12 2024, Maryland Pilots Association, LLC notified the Coast Guard that the M/V Dali will be transiting from the Port of Baltimore to Norfolk, Va. for repairs. The vessel transit is taking place with the assistance of multiple tugboats. The current estimated date of arrival in Norfolk is June 21, 2024, but it is subject to change. Given both the damage to the vessel from the allision, and the vessel's mechanical history, including the loss of propulsion which led to the allision, a 500-yard safety zone will be enforced during the transit from Baltimore Md. to the Maryland/Virginia state line, where it is anticipated that the vessel will be subject to another safety zone issued by the Captain of the Port (COTP) of Sector Virginia.

The Coast Guard is issuing this temporary final rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because doing so would be impracticable and contrary to the public interest. There is insufficient time to provide notice of a proposed rule, take and consider comments, and publish a final rule before June 20, when the rule must be in effect to provide for safety in the navigable waters around the M/V Dali as it transits to Virginia.

Under 5 U.S.C. 553(d)(3), the Coast Guard also finds that good cause exists for making this rule effective less than 30 days after publication in the Federal Register. It is impracticable and contrary to the public interest to delay the effective date of this rule because the safety zone must be effective by June 20, 2024, to protect vessels and persons from the dangers associated with the M/V Dali as it transits a busy waterway.

III. Legal Authority and Need for Rule

The Coast Guard is issuing this rule under authority in 46 U.S.C. 70034. The COTP has determined that potential hazards associated with the transit of M/V Dali resulting from its limited ability to maneuver will be a safety concern for any vessel transiting the navigation channels of the Chesapeake Bay and the Patapsco River that might meet, pass, or overtake the M/V Dali. The purpose of this rule is to protect personnel, vessels, and the marine environment in the navigable waters around the M/V Dali during its transit to the Norfolk, Va.

IV. Discussion of the Rule

This rule establishes a safety zone during the transit of the M/V Dali. It is currently anticipated that the M/V Dali will arrive in Norfolk Va. on June 21, 2024. The transit to the Maryland/Virginia state line is expected to last approximately 12 hours.

The safety zone covers all navigable waters of the Chesapeake Bay and Patapsco River within 500 yards of the M/V Dali while it is transiting between the Seagirt Marine Terminal, in Baltimore, Md., and the Maryland/Virginia State line. The duration of the zone is intended to ensure the safety of vessels and these navigable waters before, during, and after the scheduled transit. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action” under Executive Order 12866. Accordingly, this rule has not been subject to review by the Office of Management and Budget (OMB).

This regulatory action determination is based on the size and duration of the safety zone, which is only anticipated to impact only vessel traffic required to transit certain navigation channels of the Chesapeake Bay and the Patapsco River for a total of no more than 12 enforcement-hours. Although these waterways support both commercial and recreational vessel traffic, the downriver portions of the waterway will be reopened as the M/V Dali transits southward in the Chesapeake Bay and up the Patapsco River. Moreover, the Coast Guard will issue a Broadcast Notice to Mariners via VHF-FM marine channel 16 about the zone.

B. Regulatory Flexibility Act

Because the Coast Guard has determined that this final rule is exempt from notice and comment rulemaking requirements, the provisions of the Regulatory Flexibility Act (5 U.S.C. 601 et seq.) do not apply to this action.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This rule involves a safety zone lasting 14 enforcement hours that would prohibit entry within certain navigable waters of the Chesapeake Bay and Patapsco River. Normally such actions are categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 00170.1, Revision No. 01.3.

2. Add § 165.T05-0547 to read as follows:

§ 165.T05-0547 Safety Zone; M/V Dali, Transit Operation, Chesapeake Bay and Patapsco River, Baltimore, MD.

(a) Location. The following area is a safety zone: All waters of the Chesapeake Bay and Patapsco River within 500 yards of the M/V Dali while it is transiting between Seagirt Marine Terminal, Baltimore Md., and the Maryland/Virginia state line.

(b) Definitions. As used in this section—

Captain of the Port (COTP) means the Commander, U.S. Coast Guard Sector Maryland-National Capital Region.

Designated representative means a Coast Guard Patrol Commander, including a Coast Guard coxswain, petty officer, or other officer operating a Coast Guard vessel and a Federal, State, and local officer designated by or assisting the Captain of the Port Maryland-National Capital Region (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative by telephone at 410-576-2693 or on Marine Band Radio VHF-FM channel 16 (156.8 MHz). Those in the safety zone must comply with all lawful orders or directions given to them by the COTP or the COTP's designated representative.

(d) Enforcement officials. The U.S. Coast Guard may be assisted in the patrol and enforcement of the safety zone by Federal, State, and local agencies.

(e) Enforcement period. This section will be enforced during inbound transit of the M/V Dali to the Port of Norfolk.

Dated: June 17, 2024.
David E. O'Connell,
Captain, U.S. Coast Guard, Captain of the Port, Sector Maryland-NCR.

[FR Doc. 2024-13635 Filed 6-20-24; 8:45 am]

BILLING CODE 9110-04-P